SMALL BUSINESS ADMINISTRATION

Council on Underserved Communities

AGENCY: Small Business Administration.

ACTION: Solicit nominations of current and former small business owners, community leaders, officials from small business trade associations, and academic institutions to serve on the Council of Underserved Communities.

SUMMARY: The SBA Office of the Administrator (OA) is issuing this notice to solicit nominations of qualified former and current small business owners, community leaders, officials from small business trade associations, and academic institutions to serve on the Council of Underserved Communities (CUC). The CUC members provide advice, ideas and opinions on the SBA programs and services and issues of interest to small business in underserved communities. Nominations of qualified candidates are being sought to fill vacancies on the CUC. CUC members are appointed by, and serve at the pleasure of, the SBA Administrator for terms of no longer than two years. The Administrator may reappoint an individual for no more than three terms of service.

Members serve without compensation. They will, however, be reimbursed for authorized travel-related expenses at per diem rates established by GSA when asked to perform official duties as a CUC member.

DATES: Nominations for the CUC membership will be accepted on a rolling basis.

ADDRESSES: All nominations should be mailed to the Office of the Administrator, U.S. Small Business Administration, 409 3rd Street SW, Washington, DC 20416, or emailed to Kendall.Corley@sba.gov.

FOR FURTHER INFORMATION CONTACT: Kendall Corley, Office of the Administrator, U.S. Small Business Administration, 409 Third Street SW, Washington, DC 20416; Kendall.Corley@sba.gov; 202-205-6605.

SUPPLEMENTARY INFORMATION: Pursuant to section 9(a)(2) of the Federal Advisory Committee Act (FACA) (5 U.S.C. Appendix 2), and FACA implementing regulations in 41 CFR 102-3.130(a), SBA announces the meeting of the Council on Underserved Communities Advisory Board. This Board provides advice and counsel to the SBA Administrator. CUC members will examine the obstacles facing small businesses in underserved communities and recommend to SBA policy and programmatic changes to help strengthen SBA's programs and services to these communities.

Purpose

The CUC provides advice, ideas and opinions on SBA programs and services and issues of interest to small businesses in underserved communities. Among other things, its members will provide an essential connection between SBA and small businesses in inner city and rural communities. The Council's scope of activities includes reviewing SBA current programs and policies, while working towards creating new and insightful place-based initiatives to spur economic growth, job creation, competition, and sustainability.

Qualifications

Members must represent at least one of the following constituencies: current or former small business owners; community leaders; small business trade associations; or academic institutions. SBA seeks candidates representing both urban and underserved communities.

Nomination Process

Nominees should send a letter of self-nomination or a letter of nomination from a peer, professional organization or society or member of Congress. This letter must indicate which category the nominee will represent and highlight accomplishments and experience working with small businesses in urban or rural underserved communities, including personal experience as a small business owner located in an underserved community. The letter should also include the following information: Full name of nominee, occupation, physical address, telephone number, and email.

All nominees are required to submit an SBA Form 898 and resume and are subject to a conflict of interest determination by SBA and will not be considered eligible until such determination is made. Please email all nomination information to Kendall Corley at Kendall.Corley@sba.gov.

Andrienne Johnson,
Committee Management Officer.

[FR Doc. 2021-12548 Filed 6-14-21; 8:45 am]

BILLING CODE P